DEPARTMENT OF HEALTH AND HUMAN SERVICES

Agency for Toxic Substances and Disease Registry (ATSDR)

Solicitation of Interested Persons To Serve as Special Consultants to the Community Tribal Subcommittee (CTS) of the ATSDR Board of Scientific Counselors

AGENCY: Agency for Toxic Substances and Disease Registry (ATSDR), Department of Health and Human Services (HHS).

ACTION: Notice.

SUMMARY: This notice announces ATSDR's intent to fill 3 Special Consultant vacancies on the Community and Tribal Subcommittee of ATSDR's Board of Scientific Counselors.

Background:

The Community and Tribal Subcommittee is composed of four members of ATSDR's Board of Scientific Counselors (BSC). Activities of the CTS provide the BSC with a formal vehicle for citizens input. In 1994, three community and tribal representatives were selected to serve as Special Consultants to CTS. At the end of their tenure, it was decided to increase the number of Special Consultants from three to eleven in order to bring a wider spectrum of representation from community and tribal members who live near hazardous waste sites, or are otherwise affected by hazardous substances in the community environment.

To express interest in serving as a Special Consultant to CTS and obtain additional information, contact: James Tullos, Designated Federal Official, CTS, ATSDR M/S E-42, 1600 Clifton Road, NE., Atlanta, GA 30033, Telephone 1-888-422-8737.

SUPPLEMENTARY INFORMATION: ATSDR conducts public health-related activities at hazardous waste sites and releases, pursuant to the Comprehensive Environmental Response, Compensation, and Liability Act (CERCLA or Superfund) (42 U.S.C. 9601 et seq.). ATSDR established the Board of Scientific Counselors, which is chartered under the Federal Advisory Committee Act (5 U.S.C. app.). In order to obtain input from communities and tribes located near superfund sites or hazardous waste sites, the CTS is recruiting three community and tribal representatives as consultants to the CTS.

The Community and Tribal Subcommittee's objective is to provide the BSC and ATSDR with the views and recommendations of community and tribal representatives on ATSDR's community involvement programs, practices, policies, and other relevant issues impacting communities and tribes who live near Superfund and hazardous waste sites. The subcommittee reviews ATSDR's community involvement programs and policies; provides advice, findings, and recommendations to the Board on these issues; and brings broad-based community and tribal involvement issues to the attention of the Board. The Community and Tribal Subcommittee will present its findings, advice, and recommendations to the full Board. The BSC will discuss and review reports of the subcommittee and may forward recommendations to the Agency for action. The Community and Tribal Subcommittee will periodically meet and/or hold conference calls. A group consisting of Special Consultants, the CTS Chair, and the Designated Federal Official will review the applications and develop a short list to be recommended to the Agency for consideration. The Agency, in consultation with the BSC Chair, will then select the three community representatives to fill the vacancies. Accordingly, any person who lives in a community affected by a National Priority List site or other hazardous waste site; who is a representative of a group that works at local, regional, or national locations within these communities; or who wishes to be considered for serving as a special consultant on this subcommittee, should write or call the ATSDR contact person listed above to obtain additional information.

Application: Please complete the following application and return it to the address listed by Monday, June 30, 2003.

The Director, Management Analysis and Services Office, has been delegated the authority to sign Federal Register notices pertaining to announcements of meetings and other committee management activities for both the Centers for Disease Control and Prevention and ATSDR.

Diane C. Allen,
Director, Management Analysis and Services Office, Centers for Disease Control and Prevention.

BILLING CODE 4163-70-P

[FR Doc. 03-13377 Filed 5-28-03; 8:45 am]

BILLING CODE 4163-70-C